FEDERAL COMMUNICATIONS COMMISSION

47 CFR Part 73

[DA 04-1607, MB Docket No. 03-233, RM-10699]

Digital Television Broadcast Service; Pocatello, ID

AGENCY: Federal Communications Commission.

ACTION: Proposed rule, dismissal.

SUMMARY: The Commission, by this document, dismisses a petition for rule making filed by Compass Communications of Idaho, Inc., proposing the allotment of DTV channel 38 at Pocatello, Idaho. See 68 FR 66781, November 28, 2003. With this action, this proceeding is terminated.

FOR FURTHER INFORMATION CONTACT: Pam Blumenthal, Media Bureau, (202) 418-1600.

SUPPLEMENTARY INFORMATION: This is a synopsis of the Commission's Report and Order, MB Docket No. 03-233, adopted June 2, 2004, and released June 9, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com. This document is not subject to the Congressional Review Act. (The Commission is, therefore, not required to submit a copy of this Report and Order to GAO, pursuant to the Congressional Review Act, see 5 U.S.C. 801(a)(1)(A), because this proposed rule was dismissed.)

Federal Communications Commission.
Barbara A. Kreisman,
Chief, Video Division, Media Bureau.

[FR Doc. 04-15000 Filed 6-30-04; 8:45 am]

BILLING CODE 6712-01-P